NATIONAL FOUNDATION ON THE ARTS AND THE HUMANITIES

Institute of Museum and Library Services

Submission for OMB Review, Comment Request, Proposed Collection: Generic Clearance To Conduct Pre-Testing of Surveys

AGENCY: Institute of Museum and Library Services, National Foundation for the Arts and the Humanities

ACTION: Submission for OMB Review, comment request.

SUMMARY: The Institute of Museum and Library Services announces the following information collection has been submitted to the Office of Management and Budget (OMB) for review and approval in accordance with the Paperwork Reduction Act. This program helps to ensure that requested data can be provided in the desired format, reporting burden (time and financial resources) is minimized, collection instruments are clearly understood, and the impact of collection requirements on respondents can be properly assessed. This notice proposes a generic clearance to Conduct Pre-Testing of Surveys, comprising of test questionnaires and survey procedures, in order to improve the quality and usability of information collection instruments. For more information on the types of proposed information collection requests for pre-testing survey IMLS may administer, contact the individual listed below in the FOR FURTHER INFORMATION section of this notice.

DATES: Written comments must be submitted to the office listed in the ADDRESSES section below on or before March 16, 2021.

OMB is particular interested in comments that help the agency to:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology (e.g., permitting electronic submission of responses).

ADDRESSES: Written comments and recommendations for proposed information collection requests should be sent within 30 days of publication of this Notice to www.reginfo.gov/public/do/PRAMain. Find this particular information collection request by selecting “Institute of Museum and Library Services” under “Currently Under Review;” then check “Only Show ICR for Public Comment” checkbox. Once you have found this information collection request, select “Comment,” and enter or upload your comment and information. Alternatively, please mail your written comments to Office of Information and Regulatory Affairs, Attn.: OMB Desk Officer for Education, Office of Management and Budget, Room 10235, Washington, DC 20503, or call (202) 395-7316.

FOR FURTHER INFORMATION CONTACT: Matthew Birnbaum, Ph.D., Senior Evaluation Officer, Office of Digital and Information Strategy, Institute of Museum and Library Services, 955 L'Enfant Plaza North SW, Suite 4000, Washington DC 20024-2135. Dr. Birnbaum can be reached by telephone at 202-653-4760, by email at mbirnbaum@imls.gov, or by teletype (TTY/TDD) for persons with hearing difficulty at 202-653-4614. Persons who are deaf or hard of hearing (TTY users) can contact IMLS via Federal Relay at 800-877-8339.

SUPPLEMENTARY INFORMATION: The Institute of Museum and Library Services (IMLS) is the primary source of federal support for the nation's libraries and museums. We advance, support, and empower America's museums, libraries, and related organizations through grant making, research, and policy development. Our vision is a nation where museums and libraries work together to transform the lives of individuals and communities. To learn more, visit www.imls.gov.

Current Actions: This notice proposes a new three-year Generic Clearance to Conduct Pre-Testing of Surveys that will allow the agency to develop, test, and improve its surveys and methodologies. The 60-Day Notice was published in the Federal Register on July 10, 2020 (85 FR 41629). No comments were received.

IMLS envisions using a variety of techniques including but not limited to tests of various types of survey operations, focus groups, cognitive laboratory activities, pilot testing, exploratory interviews, experiments with questionnaire design, and usability testing of electronic data collection instruments.in order to identify questionnaire and procedural problems, suggest solutions, and measure the relative effectiveness of alternative solutions. Following standard OMB requirements, IMLS will submit a change request to OMB for each data collection activity undertaken under this generic clearance. IMLS will provide OMB with the instruments and supporting materials describing the research project and specific pre-testing activities.

Agency: Institute of Museum and Library Services.

Title of Collection: Generic Clearance to Conduct Pre-Testing of Surveys 2020-2023.

OMB Control Number: 3137-NEW.

Agency Number: 3137.

Affected Public: State, Local, and Tribal governments; libraries; museums.

Total Estimated Number of Annual Responses: 650.

Frequency of Response: Once per request.

Average Hours per Response: 1.

Total Estimated Number of Annual Burden Hours: 650.

Total Annual Cost Burden: $18,915.00.

Total Annual Federal Costs: $145,000.00.

Dated: February 11, 2021.
Amanda M.F. Bakale,
Assistant General Counsel.

[FR Doc. 2021-03134 Filed 2-16-21; 8:45 am]

BILLING CODE 7036-01-P